NATIONAL AERONAUTICS AND SPACE ADMINISTRATION

[Notice (10-116)]

Aerospace Safety Advisory Panel; Meeting

AGENCY: National Aeronautics and Space Administration (NASA).

ACTION: Notice of meeting.

SUMMARY: In accordance with the Federal Advisory Committee Act, Public Law 92-463, as amended, the National Aeronautics and Space Administration announces a forthcoming meeting of the Aerospace Safety Advisory Panel.

DATES: Friday, October 22, 2010, 12:30 p.m. to 2 p.m. Central Standard Time.

ADDRESSES: Johnson Space Center, NASA Road 1, Building 1, Room 966, Houston, TX 77058.

FOR FURTHER INFORMATION CONTACT: Ms. Kathy Dakon, Aerospace Safety Advisory Panel Executive Director, National Aeronautics and Space Administration, Washington, DC 20546, (202) 358-0732.

SUPPLEMENTARY INFORMATION: The Aerospace Safety Advisory Panel will hold its fourth Quarterly Meeting for 2010. This discussion is pursuant to carrying out its statutory duties for which the Panel reviews, identifies, evaluates, and advises on those program activities, systems, procedures, and management activities that can contribute to program risk. Priority is given to those programs that involve the safety of human flight. The agenda will include Safety and Mission Assurance Issues, Safely De-Orbiting the International Space Station, and Inspector General Study: Astronaut Health Update. The meeting will be open to the public up to the seating capacity of the room. Seating will be on a first-come basis. Attendees will be required to sign a visitor's register and to comply with NASA security requirements, including the presentation of a valid picture ID, before receiving an access badge. Foreign nationals attending the meeting will be required to provide the following information no less than 7 working days prior to the meeting: Full name; gender; date/place of birth; citizenship; visa/green card information (number, type, expiration date); passport information (number, country, expiration date); employer/affiliation information (name of institution, address, country, telephone); and title/position of attendee. Additional information may be requested. This would also include Legal Permanent Resident information: Green card number and expiration date. To expedite admittance, attendees with U.S. citizenship can provide identifying information 2 working days in advance. Persons with disabilities who require assistance should indicate this. Photographs will only be permitted during the first 10 minutes of the meeting. During the first 30 minutes of the meeting, members of the public may make a 5-minute verbal presentation to the Panel on the subject of safety in NASA. Any member of the public is permitted to file a written statement with the Panel at the time of the meeting. Verbal presentations and written comments should be limited to the subject of safety in NASA and should be received 2 working days in advance. It is imperative that the meeting be held on this date to accommodate the scheduling priorities of the key participants. To reserve a seat, file a written statement, or make a verbal presentation, please contact Ms. Susan Burch via e-mail at Susan.Burch@nasa.gov.

Dated: September 28, 2010.
P. Diane Rausch,
Advisory Committee Management Officer, National Aeronautics and Space Administration.

[FR Doc. 2010-24753 Filed 10-1-10; 8:45 am]

BILLING CODE P